DEPARTMENT OF THE INTERIOR

Fish and Wildlife Service

[Docket No. FWS-R6-ES-2021-0056; FF06E21000 234 FXES11140600000]

Endangered and Threatened Wildlife and Plants; Proposed Amendment to Programmatic Safe Harbor Agreement and Candidate Conservation Agreement With Assurances for Kansas Aquatic Species

AGENCY: Fish and Wildlife Service, Interior.

ACTION: Notice of availability; request for comments.

SUMMARY: We, the U.S. Fish and Wildlife Service (Service), are announcing the availability of documents associated with an application to amend an enhancement of survival permit (permit) under the Endangered Species Act. The Kansas Department of Wildlife and Parks has applied to amend the existing Programmatic Safe Harbor Agreement and Candidate Conservation Agreement with Assurances for 14 Aquatic Species in Kansas (SHA/CCAA) by adding one additional covered species, the western fanshell (Cyprogenia aberti). The documents available for review and comment are the applicant's proposed amended programmatic SHA/CCAA, which is part of the permit amendment application, and our draft environmental action statement and low-effect screening form, which support a categorical exclusion for the amendment under the National Environmental Policy Act. We invite comments from the public and Federal, Tribal, State, and local governments.

DATES: We will accept comments received or postmarked on or before November 14, 2022. Comments submitted online at https://www.regulations.gov (see ADDRESSES) must be received by 11:59 p.m. Eastern Time on November 14, 2022.

ADDRESSES:

Obtaining Documents: The documents this notice announces, as well as any comments and other materials that we receive, will be available for public inspection online in Docket No. FWS-R6-ES-2014-0048 at https://www.regulations.gov.

Submitting Comments: To submit written comments, please use one of the following methods, and note that your information request or comments are in reference to the Kansas Aquatic SHA/CCAA amendment.

• Online: https://www.regulations.gov. Follow the instructions for submitting comments on Docket Number FWS-R6-ES-2014-0048.

• U.S. Mail: Public Comments Processing, Attn: Docket No. FWS-R6-ES-2014-0048; U.S. Fish and Wildlife Service Headquarters, MS: PRB/3W; 5275 Leesburg Pike; Falls Church, VA 22041-3803.

FOR FURTHER INFORMATION CONTACT: Gibran Suleiman, by phone at 785-539-3474, extension 114, or by email at gibran_suleiman@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from the Kansas Department of Wildlife and Parks (KDWP, applicant) to amend their existing 50-year enhancement of survival permit (permit) under the Endangered Species Act of 1973, as amended (ESA; 16 U.S.C. 1531 et seq.). The amendment requests the addition of 1 species, the western fanshell, which is currently proposed for Federal listing as a threatened species, to the 14 species that are already covered by the applicant's existing approved programmatic safe harbor agreement (SHA) and candidate conservation agreement with assurances (CCAA) on non-Federal lands in the State of Kansas. The documents available for review and comment are the applicant's proposed amended programmatic SHA/CCAA, which is part of the permit amendment application, and our draft environmental action statement and low-effect screening form for the amendment request, which support a categorical exclusion under the National Environmental Policy Act (NEPA; 42 U.S.C. 4321 et seq.) We invite comments on documents from the public and Federal, Tribal, State, and local governments.

Background

Via a Federal Register notice published on September 15, 2021 (86 FR 51366), we announced the availability of KDWP's original application for an enhancement of survival permit with a 50-year term, which included a proposed programmatic SHA/CCAA for 14 aquatic species in Kansas, and our draft environmental action statement and low-effect screening form, which supported a categorical exclusion under NEPA. The comment period was open until October 15, 2021. After considering the application and associated materials, we issued the requested permit. To provide background information, we have made the original 2021 proposed programmatic SHA and CCAA, along with related documents and comments, available for review in https://www.regulations.gov under Docket No. FWS-R6-ES-2021-0056; however, we will not be taking further comments on those documents.

Safe Harbor Agreements and Candidate Conservation Agreements With Assurances

A SHA is an agreement between the Service, partners, and landowners for voluntary management of non-Federal lands to contribute towards recovery of ESA-listed species in a manner that is consistent with the Service's policy on SHAs (64 FR 32717, June 17, 1999) and applicable regulations. A CCAA is an agreement between the Service, partners, and landowners for voluntary management of non-Federal lands to remove or reduce key threats to species that may become listed under the ESA, in a manner that is consistent with the Service's policy on CCAAs (81 FR 95164, December 27, 2016) and applicable regulations. In return for implementing conservation measures in a SHA/CCAA, the Service gives participants assurances that the Service will not impose land, water, or resource use restrictions or conservation requirements on ESA-listed species, or those that may become listed, beyond those agreed to in the SHA/CCAA.

Applicant's Proposed Amendment to Programmatic Safe Harbor Agreement/Candidate Conservation Agreement With Assurances

KDWP's purpose in amending its programmatic SHA/CCAA is to include the western fanshell (Cyprogenia aberti), in order to facilitate the reintroduction and implementation of conservation measures for the species on non-Federal lands in Kansas. The documents available for review and comment are the proposed amended programmatic SHA/CCAA, which is part of the permit application, and our draft environmental action statement and low-effect screening form, which support a categorical exclusion under NEPA.

To enroll in the programmatic SHA/CCAA, a non-Federal landowner would enter into a landowner agreement with KDWP to enroll all or a portion of their property under the SHA and/or CCAA. Upon signature by both parties, KDWP would issue a certificate of inclusion to the non-Federal landowner, extending assurances and take authorization to the participating landowner for the appropriate covered species. The requested permit duration is for 50 years from December 15, 2021 (the date of original permit issuance). Proposed conservation measures include the introduction, reintroduction, augmentation (release of individuals to supplement an existing population), or translocation of the covered species, and protection or enhancement of aquatic, wetland, riparian, or adjacent upland habitats for the covered species. Conservation measures would be site specific, and would be developed by the participating landowner and KDWP. Incidental take of covered species may occur as a result of the implementation of conservation measures or ongoing land management activities on the enrolled lands.

Covered Species

The addition of the western fanshell to the 14 species in the existing agreement would bring the total number of species covered under the CCAA/SHA to 15. All 15 species are in the table below.

Species name | Scientific name | Federal listing status | Federal Register listing citation
Safe Harbor Agreement Covered Species
Fishes:
Arkansas River shiner | Notropis girardi | Threatened | 63 FR 64772; November 13, 1998.
Neosho madtom | Noturus placidus | Threatened | 55 FR 21148; May 22, 1990.
Neosho mucket | Lampsilis rafinesqueana | Endangered | 78 FR 57076; September 17, 2013.
Peppered chub | Macrhybopsis tetranema | Endangered | 87 FR 11188; February 28, 2022.
Topeka shiner | Notropis topeka | Endangered | 63 FR 69008; December 15, 1998.
Clams:
Rabbitsfoot | Quadrula cylindrica cylindrica | Threatened | 78 FR 57076; September 17, 2013.
Candidate Conservation Agreement with Assurances Covered Species
Reptiles:
Alligator snapping turtle | Macrochelys temminckii | Proposed Threatened | N/A.
Fishes:
Hornyhead chub | Nocomis biguttatus | Unlisted | N/A.
Plains minnow | Hybognathus placitus | Unlisted | N/A.
Silver chub | Macrhybopsis storeriana | Unlisted | N/A.
Clams:
Butterfly mussel | Ellipsaria lineolata | Unlisted | N/A.
Cylindrical papershell | Anodontoides ferussacianus | Unlisted | N/A.
Flat floater | Anodonta suborbiculata | Unlisted | N/A.
Fluted shell | Lasmigona costata | Unlisted | N/A.
Western fanshell | Cyprogenia aberti | Proposed Threatened | N/A.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22 and 17.32) and NEPA (42 U.S.C. 4321 et seq.) and its implementing regulations (40 CFR 1506.6 and 43 CFR 46).

Drue DeBerry,
Acting Assistant Regional Director, Ecological Services, Mountain-Prairie Region.

[FR Doc. 2022-22249 Filed 10-12-22; 8:45 am]

BILLING CODE 4333-15-P